DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Initial Assessment and Evaluation of the Public Health Training Center Programs.

OMB No.: 0915-xxxx—NEW.

Abstract: The Public Health Training Center (PHTC) Program provides support to help improve the public health workforce by strengthening the competence of the existing and future public health workforce and addressing public health workforce shortages. Grantees of the PHTC Program include accredited schools and programs of public health and other private and non-profit entities that are required to provide competency-based training and educational programs—based on the Core Competencies for Public Health Professionals, outlined by the Council on Linkages between Academia and Public Health—that support core public health functions and the Ten Essential Public Health Services.

Need and Proposed Use of the Information: The Bureau of Health Professions (BHPr) is currently evaluating the PHTC Program to assess how grantees are meeting the needs of the public health workforce, improving the public health workforce by strengthening the competence of the existing and future public health workforce, and addressing shortages of the public health workforce. The specific purpose of this data collection activity is to obtain information from individuals who participate in continuing education courses offered by PHTC grantees in order to gauge and monitor changes in participants' knowledge about public health related issues.

Likely Respondents: Participants of continuing education courses offered by PHTC grantees.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
CE Survey Form | 1,569 | 1 | 1,569 | .16 | 251
Total | 1,569 | 1 | 1,569 | .16 | 251

Dated: February 26, 2014.
Jackie Painter,
Deputy Director, Division of Policy and Information Coordination.

[FR Doc. 2014-05145 Filed 3-7-14; 8:45 am]

BILLING CODE 4165-15-P